FEDERAL MARITIME COMMISSION

Notice of Agreements Filed

The Commission hereby gives notice of the filing of the following agreements under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011849-001.

Title: HSDG/Maersk Sealand Space Charter Agreement.

Parties: Hamburg Sudamerikanische Dampfschifffahrts-Gesellschaft K.G., and A.P. Moller-Maersk A/S.

Synopsis: The amendment deletes reference to CAT (Crowley American Transport) from the name of the agreement and as a Hamburg Sud trade name and updates Maersk's corporate name.

Agreement No.: 201129-001.

Title: Manatee/WSI Warehouse Lease.

Parties: Manatee County Port Authority and WSI of the Southeast, LLC.

Synopsis: The modification extends the term of the lease through December 31, 2008 and revises the compensation provisions.

Dated: January 9, 2004.
By Order of the Federal Maritime Commission.
Bryant L. VanBrakle,
Secretary.

[FR Doc. 04-814 Filed 1-13-04; 8:45 am]

BILLING CODE 6730-01-P